DEPARTMENT OF ENERGY

Federal Energy Regulatory Commission

Combined Notice of Filings #2

Take notice that the Commission received the following electric rate filings:

Docket Numbers: ER10-1342-002, ER10-1343-002, ER10-1345-002, ER11-2534-001, ER10-2759-002, ER10-2631-002, ER10-2632-002.

Applicants: Rumford Power Inc., Bridgeport Energy, LLC, CP Energy Marketing (US) Inc., CPIDC, Inc., Tiverton Power Inc., Morris Cogeneration, LLC, CPI Energy Services (US) LLC.

Description: Triennial Market-Based Rate Update for the Northeast Region of CP Energy Marketing (US) Inc., et. al.

Filed Date: 06/30/2011.

Accession Number: 20110630-5283.

Comment Date: 5 p.m. Eastern Time on Monday, August 29, 2011.

Docket Numbers: ER10-1484-001.

Applicants: Shell Energy North America (U.S.), L.P.

Description: Updated Market Power Analysis for the Northeast Region of Shell Energy North America (U.S.), L.P.

Filed Date: 06/30/2011.

Accession Number: 20110630-5215.

Comment Date: 5 p.m. Eastern Time on Monday, August 29, 2011.

Docket Numbers: ER10-1511-002, ER10-1512-001, ER10-1714-002, ER10-2011-003.

Applicants: Kentucky Utilities Company, LG&E Energy Marketing Inc., Louisville Gas & Electric Company, PPL EnergyPlus, LLC.

Description: Triennial Market Power Update of Louisville Gas and Electric Company, et. al.

Filed Date: 06/30/2011.

Accession Number: 20110630-5213.

Comment Date: 5 p.m. Eastern Time on Monday, August 29, 2011.

Docket Numbers: ER10-1515-002.

Applicants: CPV Liberty, LLC.

Description: Market Power Update of CPV Liberty, LLC.

Filed Date: 06/30/2011.

Accession Number: 20110630-5265.

Comment Date: 5 p.m. Eastern Time on Monday, August 29, 2011.

Docket Numbers: ER10-1519-001.

Applicants: Liberty Electric Power, LLC.

Description: Market Power Update of Liberty Electric Power, LLC.

Filed Date: 06/30/2011.

Accession Number: 20110630-5266.

Comment Date: 5 p.m. Eastern Time on Monday, August 29, 2011.

Docket Numbers: ER10-1537-001, ER10-1553-001, ER10-1538-001, ER10-1539-001, ER10-1540-001, ER10-1531-001.

Applicants: Entergy Nuclear Generation Company, Entergy Nuclear Power Marketing, LLC, Entergy Nuclear Vermont Yankee, LLC, Entergy Nuclear Fitzpatrick, LLC, Entergy Nuclear Indian Point 2, LLC, Entergy Nuclear Indian Point 3, LLC.

Description: Triennial Market Update of Entergy Nuclear Fitzpatrick, LLC, et. al.

Filed Date: 06/30/2011.

Accession Number: 20110630-5269.

Comment Date: 5 p.m. Eastern Time on Monday, August 29, 2011.

Docket Numbers: ER10-1734-001.

Applicants: MXenergy Electric Inc.

Description: Updated Market Power Analysis for the Northeast Region of MXenergy Electric Inc.

Filed Date: 06/30/2011.

Accession Number: 20110630-5268.

Comment Date: 5 p.m. Eastern Time on Monday, August 29, 2011.

Docket Numbers: ER10-1760-001, ER10-1758-001.

Applicants: Carolina Power & Light Company d/b/a Pro, Florida Power Corporation.

Description: Change in Status filing of Carolina Power & Light Company and Florida Power Corporation.

Filed Date: 06/30/2011.

Accession Number: 20110630-5210.

Comment Date: 5 p.m. Eastern Time on Thursday, July 21, 2011.

Docket Numbers: ER10-2172-003, ER10-2174-003, ER10-2176-003, ER10-2180-003, ER10-2178-003, ER10-2192-003, ER10-2184-003, ER10-2183-002, ER10-3308-003, ER10-2281-003, ER11-2383-002.

Applicants: Constellation Energy Commodities Group, Constellation Pwr Source Generation LLC, Constellation NewEnergy, Inc., CER Generation II, LLC, Safe Harbor Water Power Corporation, Baltimore Gas & Electric Company, Handsome Lake Energy, LLC, CER Generation, LLC, Constellation Energy Commodities Group M, Constellation Mystic Power, LLC, Criterion Power Partners, LLC.

Description: Notice of Non-Material Change in Status of Baltimore Gas and Electric Company, et. al.

Filed Date: 06/30/2011.

Accession Number: 20110630-5286.

Comment Date: 5 p.m. Eastern Time on Thursday, July 21, 2011.

Docket Numbers: ER10-2179-004, ER10-2181-004, ER10-2182-004.

Applicants: R.E. Ginna Nuclear Power Plant, LLC, Nine Mile Point Nuclear Station, LLC, Calvert Cliffs Nuclear Power Plant, LLC.

Description: Notice of Non-Material Change in Status of Calvert Cliffs Nuclear Power Plant, LLC, et. al.

Filed Date: 06/30/2011.

Accession Number: 20110630-5217.

Comment Date: 5 p.m. Eastern Time on Thursday, July 21, 2011.

Docket Numbers: ER10-2197-001.

Applicants: Northern States Power Company, a Wisconsin Corporation.

Description: Northern States Power Company, a Wisconsin corporation submits tariff filing per 35: 20110330_Compliance Filing correcting baseline to be effective 8/11/2010 under ER10-2197-001 Filing Type: 80.

Filed Date: 03/30/2011.

Accession Number: 20110330-5065.

Comment Date: 5 p.m. Eastern Time on Friday, July 22, 2011.

Docket Numbers: ER10-2398-001, ER10-2399-001, ER10-2406-001, ER10-2408-001, ER10-2409-001, ER10-2410-001, ER10-2411-002, ER10-2412-002, ER10-2414-001, ER11-2935-001.

Applicants: High Trail Wind Farm, LLC, Old Trail Wind Farm, LLC, Marble River, LLC, Meadow Lake Wind Farm LLC, Meadow Lake Wind Farm II LLC, Blackstone Wind Farm LLC, Blackstone Wind Farm II LLC, Meadow Lake Wind Farm IV LLC, Meadow Lake Wind Farm III LLC, Paulding Wind Farm II LLC.

Description: Updated Market Power Analysis for the Northeast Region of Blackstone Wind Farm LLC, et. al.

Filed Date: 06/30/2011.

Accession Number: 20110630-5292.

Comment Date: 5 p.m. Eastern Time on Monday, August 29, 2011.

Docket Numbers: ER10-2432-001, ER10-2435-001, ER10-2440-001, ER10-2442-001, ER10-2443-001, ER10-2444-001, ER10-2446-001, ER10-2447-001, ER10-2449-001.

Applicants: York Generation Company LLC, Lowell Cogeneration Company Limited Part, Dartmouth Power Associates Limited Partn, Camden Plant Holding, LLC, Pedricktown Cogeneration Company LP, Elmwood Park Power LLC, Newark Bay Cogeneration Partnership, L.P., Power City Partners, L.P., Bayonne Plant Holding, LLC.

Description: Updated Market Power Analysis for the Northeast Region of Camden Plant Holding, LLC, et. al.

Filed Date: 06/30/2011.

Accession Number: 20110630-5282.

Comment Date: 5 p.m. Eastern Time on Monday, August 29, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: July 1, 2011.
Nathaniel J. Davis, Sr.,
Deputy Secretary.

[FR Doc. 2011-17835 Filed 7-14-11; 8:45 am]

BILLING CODE 6717-01-P